ENVIRONMENTAL PROTECTION AGENCY

[ER-FRL-6673-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20050387, ERP No. D-FHW-E40804-TN, Interstate 69 Segment of Independent Utility #8, Construction from TN-385 (Paul Barrett Parkway) in Millington, TN to I-155/US51 in Dyersburg, TN, Funding, Shelby, Tipton, Lauderdale and Dyer Counties, TN.

Summary: EPA has environmental concerns about the proposed project related to impacts on water quality, aquatic habitat and floodplains in the affected watersheds. EPA also has concerns that a new bridge crossing of the Hatchie River will threaten its designation as a High Quality Water and State Scenic River due to excessive sedimentation, contaminants, altered flow patterns and habitat fragmentation. Rating EC2.

EIS No. 20050498, ERP No. D-BLM-J02048-WY, Seminoe Road Natural Gas Development Project, Proposed Coalbed Natural Gas Development and Operation, Carbon County, WY.

Summary: EPA expressed environmental concerns about water quality impacts (increased salt and total dissolved solids) and impacts on vegetation and wildlife. Rating EC2.

EIS No. 20050534, ERP No. D-AFS-L65499-WA, The Summit at Snoqualmie Master Development Plan (MPD), Proposal to Ensure Long-Term Economic Viability, Mt. Baker-Snoqualmie/Okanogan-Wenatchee National Forests, King County, WA.

Summary: EPA expressed environmental concerns about potential water quality and wetland impacts, and requested that additional discussion on cumulative impacts at the local drainage level be provided. Rating EC2.

EIS No. 20050545, ERP No. D-FHW-K50014-CA, Doyle Drive Project, South Access to the Golden Gate Bridge, Propose to Improve Seismic, Structural, and Traffic Safety, Presido of San Francisco, San Francisco County Transportation Authority, Marin and San Francisco Counties, CA.

Summary: EPA has environmental concerns about the proposed project regarding impacts to cultural and historic resources, impacts to local traffic, and construction-related emissions. Rating EC2.

EIS No. 20060001, ERP No. D-FHW-J40172-UT, Syracuse Road 1000 West to 2000 West, Transportation Improvements, Funding and U.S. Army COE Section 404 Permit, Syracuse City, Davis County, UT.

Summary: EPA has environmental concerns about the proposed project related to the relocation of homes and businesses due to right-of-way acquisitions. Rating EC1.

EIS No. 20060008, ERP No. D-FHW-G40187-LA, East-West Corridor Highway Component, from I-130 to Louis Armstrong International Airport, to Central Business District (CBD), Jefferson, Orleans and St. Charles Parishes, LA.

Summary: EPA has no objections to the proposed project. Rating LO.

EIS No. 20050401, ERP No. DS-SFW-K99021-00, Southern Sea Otters (Enhydra lutris nereis) Translocation Program, New and Updated Information, San Nicolas Island, Southern California Bight, CA.

Summary: EPA does not object to Alternative 3C, the proposed action. Rating LO.

EIS No. 20060047, ERP No. DS-AFS-K65283-CA, Empire Vegetation Management Project, Additional Information to Clarify Previous Analysis, Vegetation, Fire/Fuels/Air Quality, Wildlife, Watershed, and Botanical Resource/Noxious Weeds, Mount Hough Ranger District, Plumas National Forest, Plumas County, CA.

Summary: While EPA does not object to the proposed action, it requested clarification on monitoring and adaptive management commitments and mitigation of air quality impacts. Rating LO.

Final EISs

EIS No. 20060029, ERP No. F-NOA-L39062-WA, Washington State Forest Habitat Conservation Plan, Propose Issuance of Multiple Species Incidental Take Permit of 4(d) Rules, NPDES Permit, U.S. Army COE Section 10 and 404 Permits, WA.

Summary: While EPA does not object to the proposed action, it requested clarification of monitoring plans for streams and trends in the usage pesticides and their effect on water quality.

Dated: March 14, 2006.
Robert W. Hargrove,
Director, NEPA Compliance Division, Office of Federal Activities.

[FR Doc. E6-3910 Filed 3-16-06; 8:45 am]

BILLING CODE 6560-50-P